CONSUMER PRODUCT SAFETY COMMISSION

Sunshine Act Meeting

TIME AND DATE: Wednesday, May 7, 2025—10:00 a.m.

PLACE: The meetings will be held remotely, and in person at 4330 East West Highway, Bethesda, Maryland 20814.

STATUS: Commission Meeting—Open to the Public.

MATTERS TO BE CONSIDERED:

Briefing Matter (10:00 a.m.)

Fiscal Year 2025 Proposed Operating Plan Alignment and Midyear Review

To register and attend remotely, please use the following link: https://events.gcc.teams.microsoft.com/event/5ecb8d0a-3f5d-4bf2-8c3a-3d2041b00cbb@7f5de26c-a63d-475c-9b6c-4126a914e132.

CONTACT PERSON FOR MORE INFORMATION: Alberta E. Mills, Office of the Secretary, U.S. Consumer Product Safety Commission, 4330 East West Highway, Bethesda, MD 20814, 301-504-7479 (Office) or 240-863-8938 (Cell).

Dated: April 30, 2025.
Elina Lingappa,
Paralegal Specialist.

[FR Doc. 2025-07799 Filed 4-30-25; 4:15 pm]

BILLING CODE 6355-01-P